FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 003134F.

Name: Enterprise Forwarders, Inc.

Address: 8555 NW 29th Street, 2nd Floor, Doral, FL 33122.

Date Revoked: June 30, 2013.

Reason: Failed to maintain a valid bond.

License No.: 16209N.

Name: Amos Cargo Service, Inc.

Address: 855 West Victoria Street, Unit G, Compton, CA 90220.

Date Revoked: July 12, 2013.

Reason: Failed to maintain a valid bond.

License No.: 16299N.

Name: Pan-World Express, Inc.

Address: 2839 East 208th Street, Carson, CA 90810.

Date Revoked: June 17, 2013.

Reason: Failed to maintain a valid bond.

License No.: 016914N.

Name: Air Sea Cargo Network, Inc.

Address: 7982 Capwell Drive, Oakland, CA 94621.

Date Revoked: June 14, 2013.

Reason: Failed to maintain a valid bond.

License No.: 016959F.

Name: Francis Mendez Alvarez dba Servicios Hundurenos.

Address: 1200 Labco Street, Houston, TX 77029.

Date Revoked: July 13, 2013.

Reason: Failed to maintain a valid bond.

License No.: 017531N.

Name: New York Logistic Services, Inc. dba Global American Line.

Address: 1308 Merrywood Drive, Edison, NJ 08817.

Date Revoked: July 16, 2013.

Reason: Failed to maintain a valid bond.

License No.: 018392F.

Name: Broom U.S.A., Inc. dba Transcontinental Logistics Neutral 3PL.

Address: 2293 NW 82th Avenue, Doral, FL 33122.

Date Revoked: June 17, 2013.

Reason: Failed to maintain a valid bond.

License No.: 018461F.

Name: Select Aircargo Services, Inc. dba PAC International Logistics Company.

Address: 12801 South Figueroa Street, Los Angeles, CA 90061.

Date Revoked: July 10, 2013.

Reason: Failed to maintain a valid bond.

License No.: 018716N.

Name: Transporte Medrano Inc.

Address: 134 North Franklin Street, Hempstead, NY 11550.

Date Revoked: July 25, 2013.

Reason: Failed to maintain a valid bond.

License No.: 019364F.

Name: New Life Health Care Services, LLC dba New Life Marine Services.

Address: 3527 Brackenfern Road, Katy, TX 77449.

Date Revoked: June 9, 2013.

Reason: Failed to maintain a valid bond.

License No.: 019608N.

Name: United Logistics (LAX) Inc.

Address: 13079 Artesia Blvd., Suite B-110, Cerritos, CA 90703.

Date Revoked: June 21, 2013.

Reason: Failed to maintain a valid bond.

License No.: 020319N.

Name: Fil Lines USA Inc.

Address: One Woodbridge Center, Suite #255, Woodbridge, NJ 07095.

Date Revoked: June 27, 2013.

Reason: Voluntary Surrender of License.

License No.: 020375N.

Name: Antolin German dba Embarque El Commando.

Address: 488 E. 164th Street, Bronx, NY 10456.

Date Revoked: July 4, 2013.

Reason: Failed to maintain a valid bond.

License No.: 020525N.

Name: Zeus (USA) Logistics LLC.

Address: 231 Blossom Lane, West Palm Beach, FL 33404.

Date Revoked: July 4, 2013.

Reason: Failed to maintain a valid bond.

License No.: 020740F.

Name: Aseco Container Services Inc.

Address: 29 West 30th Street, 12th Floor, New York, NY 10001.

Date Revoked: June 15, 2013.

Reason: Failed to maintain a valid bond.

License No.: 021539NF.

Name: USA Ocean Express LLC dba USA-Ocean Express Agency.

Address: 220 Route 46 West, Suite 214, Little Ferry, NJ 07643.

Date Revoked: July 3, 2013.

Reason: Failed to maintain valid bonds.

License No.: 022476NF.

Name: Maze Express, L.L.C.

Address: 9106 Sorensen Avenue, Santa Fe Springs, CA 90670.

Date Revoked: June 21, 2013.

Reason: Failed to maintain valid bonds.

License No.: 023062NF.

Name: A & M Ocean Machinery, Inc.

Address: 9725 Fontainebleau Blvd., Suite 103, Miami, FL 33172.

Date Revoked: July 4, 2013.

Reason: Failed to maintain valid bonds.

James A. Nussbaumer,
Deputy Director, Bureau of Certification and Licensing.

[FR Doc. 2013-19771 Filed 8-14-13; 8:45 am]

BILLING CODE 6730-01-P